DEPARTMENT OF THE INTERIOR

Fish and Wildlife Service

Notice of Intent To Prepare an Environmental Assessment for the Proposed Exchange of Lands With Federal Interest on South Fox Island, Leelanau County, Michigan, Between the State of Michigan and a Private Citizen

AGENCY: Fish and Wildlife Service, Interior, lead; National Park Service, Interior, cooperating.

ACTION: Notice of Intent to prepare an Environmental Assessment for the proposed exchange of lands with Federal interest on South Fox Island, Leelanau County, Michigan.

SUMMARY: This notice advises the public that the U.S. Fish and Wildlife Service (FWS) intends to gather the information necessary for the preparation of an EA. The actions to be evaluated by this EA are: (1) The approval by FWS of the exchange of 325.8 acres, acquired by the State with Federal Aid in Wildlife Restoration assistance, for lands with equal monetary and wildlife restoration values; (2) the approval by the National Park Service (NPS) for the State to exchange 115.1 acres with NPS interest for private lands with equal or better public value; and (3) the related exchange of 212.4 acres of unencumbered State-owned land for fee title and easements for private lands of equal value. All acreage is approximate. This will consolidate and confine State ownership to approximately the northern one-third of South Fox Island, Leelanau County, Michigan, about 30 miles WNW of Charlevoix, in Lake Michigan.

The Service Regional Director is considering, under the authority of 50 CFR 80.14 and 43 CFR 12.71, exchange of lands acquired with Federal Aid in Wildlife Restoration funds. The NPS and General Service's Administration are considering the removal of a title reversion clause to allow the disposal of certain lands on South Fox Island and for the placement of a title reversion clause on replacement lands of equal public value. Alternatives could include approval, disapproval, or modification of the State's current proposal of the land exchange. Modifications could include, but are not limited to: changes in the boundaries and acreage of tracts to be exchanged; elimination of the NPS tract from the exchange; and deed restrictions on private lands to protect wildlife and historic resources.

This notice is being furnished as required by the National Environmental Policy Act (NEPA) Regulations (40 CFR1501.7 and 1508.22). The intent of the notice is to obtain suggestions and additional information from other agencies and the public on the scope of issues to be addressed in the EA. Comments and participation in this scoping process are solicited.

DATES: Written comments should be received on or before October 23, 2000. A scoping meeting is scheduled for October 12, 2000 at Charlevoix City Hall, 215 State Street, Charlevoix, Michigan, with duplicate sessions from 2 to 5 pm and from 7 to 10 pm. This meeting will also be announced in the local news media.

Public Involvement: The public will be invited to participate in the scoping process, a public meeting, and review of the draft EA when it is produced. One scoping meeting is scheduled on October 12, 2000, at the Charlevoix, Michigan City Hall and will be announced in the local news media. Release of the draft EA for public comment will also be announced in the local news media, as these dates are established. Written scoping comments should be received within 30 days from the date of publication of this Notice of Intent.

All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

ADDRESSES: Comments should be addressed to: Regional Director, Region 3, U.S. Fish and Wildlife Service, 1 Federal Drive, Fort Snelling, Minnesota 55111. Electronic mail comments may also be submitted within the comment period to: fw3foxisland@fws.gov.

FOR FURTHER INFORMATION CONTACT: Mr. Craig Czarnecki, U.S. Fish and Wildlife Service, East Lansing Field Office, 2651 Coolidge Road, Suite 101, East Lansing, MI 48823, telephone: (517) 351-8470, facsimile: (517) 351-1443; Mr. Jon Parker, U.S. Fish and Wildlife Service, Division of Federal Aid, Bishop Henry Whipple Federal Building, 1 Federal Drive, Fort Snelling, MN 55111; telephone: 612-713-5142, facsimile: (612) 713-5290; or Mr. John Kelly, National Park Service, 15 State Street, Boston, MA 02109, telephone (617) 223-5190.

SUPPLEMENTARY INFORMATION: The 115.1—acre State owned tract with NPS and GSA interest contains the South Fox Island Lighthouse facilities that are either listed or are likely eligible to be listed on the National Register of Historic Places; other historical or archeological resources may be present. The National Historic Preservation Act and other laws require these properties and resources be identified and considered in project planning. The public is requested to inform the FWS of concerns about archeological sites, buildings and structures, historic events, sacred and traditional areas, and other historic preservation concerns.

The NPS tract also includes proposed Critical Habitat for the Federally Endangered Piping plover. The tract also contains Federally Threatened Pitcher's thistle, which is also present at other locations on the island.

The Grand Traverse Band of Ottawa and Chippewa Indians has unresolved claims to title and other property rights on the island. There is an Indian cemetery on the private lands.

There have been ongoing conflicts over trespass on both public and private land parcels on the island. Public access is an ongoing issue.

The Service estimates that the draft EA will be made available to the public by early November, 2000.

Barbara Milne,
Acting Regional Director, Region 3, Fort Snelling, MN.

[FR Doc. 00-24249 Filed 9-21-00; 8:45 am]

BILLING CODE 4310-55-P